OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between May 1, 2009, and May 31, 2009. Future notices will be published on the fourth Tuesday of each month, or as soon as possible thereafter. A consolidated listing of all authorities as of June 30 is published each year. The following Schedules are not codified in the code of Federal Regulations. These are agency specific exceptions.

Schedule A

The following Schedule A authority for the Department of Treasury is amended to read: Section 213.3105(a)(3) Not to exceed 100 positions in the Office of the Undersecretary for Terrorism and Financial Intelligence.

Schedule B

No Schedule B authority to report.

Schedule C

The following Schedule C appointments were approved during May 2009.

Office of Management and Budget

BOGS90028 Confidential Assistant, Office of Management and Budget. Effective May 4, 2009.

BOGS90013 Legislative Assistant for Legislative Affairs. Effective May 13, 2009.

BOGS90016 Confidential Assistant for Economic Policy. Effective May 13, 2009.

BOGS90017 Confidential Assistant for General Government Programs. Effective May 13, 2009.

BOGS90029 Confidential Assistant to the General Counsel. Effective May 13, 2009.

BOGS90031 Deputy to the Associate Director for Legislative Affairs (House). Effective May 27, 2009.

BOGS90032 Deputy Press Secretary, Strategic Planning and Communications. Effective May 28, 2009.

Office of the United States Trade Representative

TNGS70002 Special Assistant to the Deputy United States Trade Representative. Effective May 22, 2009.

TNGS90008 Writer-Editor for Public and Media Affairs. Effective May 22, 2009.

Department of State

DSGS69885 Staff Assistant for Legislative and Intergovernmental Affairs. Effective May 6, 2009.

DSGS69849 Staff Assistant to the HIV/AIDS Coordinator. Effective May 22, 2009.

DSGS69825 IT Specialist—Policy and Planning, Under Secretary for Management. Effective May 27, 2009.

Department of the Treasury

DYGS00419 Special Assistant to the Executive Secretary. Effective May 1, 2009.

DYGS60418 Special Assistant to the Executive Secretary. Effective May 5, 2009.

DYGS00384 Special Assistant to the Chief of Staff. Effective May 6, 2009.

DYGS00434 Special Assistant to the Deputy Chief of Staff. Effective May 6, 2009.

DYGS00844 Public Affairs Specialist. Effective May 6, 2009.

DYGS01377 Staff Assistant for Scheduling and Advance. Effective May 6, 2009.

DYGS60351 Senior Advisor to the Assistant Secretary (Public Affairs). Effective May 6, 2009.

DYGS60391 Advance Specialist for Scheduling and Advance. Effective May 6, 2009.

DYGS00398 Senior Advisor for Domestic Finance. Effective May 8, 2009.

DYGS60412 Advance Specialist for Scheduling and Advance. Effective May 8, 2009.

DYGS00464 Staff Assistant for Legislative Affairs. Effective May 15, 2009.

DYGS00440 Public Affairs Specialist. Effective May 19, 2009.

DYGS00490 Special Assistant to the Special Envoy for China and the Strategic Economic Dialogue. Effective May 29, 2009.

DYGS00518 Public Affairs Specialist. Effective May 29, 2009.

DYGS60381 Special Assistant for Legislative Affairs (Appropriations and Management). Effective May 29, 2009.

DYGS60405 Special Assistant for Legislative Affairs (International). Effective May 29, 2009.

Department of Defense

DDGS17210 Special Assistant to the Assistant Secretary Defense (International Security Affairs). Effective May 1, 2009.

DDGS17213 Special Assistant to the Assistant Secretary Defense (Reserve Affairs). Effective May 4, 2009.

DDGS17208 Special Assistant to the Assistant Secretary Defense (Comptroller). Effective May 5, 2009.

DDGS17202 Principal Director, Nuclear and Missile Defense Policy for Defense (Global Security Affairs). Effective May 7, 2009.

DDGS17212 Special Assistant to the Principal Under Secretary of Defense (Policy). Effective May 8, 2009.

DDGS17211 Special Assistant to the Principal Deputy Under Secretary of Defense (Middle East). Effective May 15, 2009.

DDGS17214 Special Assistant to the Principal Deputy Under Secretary of Defense (Nuclear, Chemical and Biological Defense Programs). Effective May 19, 2009.

DDGS17216 Special Assistant to the Deputy Assistant Secretary of Defense (Central Asia). Effective May 21, 2009.

DDGS17215 Special Assistant to the Deputy Assistant Secretary of Defense (Legislative Affairs). Effective May 26, 2009.

DDGS17217 Special Assistant to the Director of Net Assessment. Effective May 26, 2009.

DDGS17218 Special Assistant for Defense (Legislative Affairs). Effective May 26, 2009.

Department of Justice

DJGS00275 Senior Counsel to the Assistant Attorney General (Legal Policy). Effective May 5, 2009.

DJGS00498 Confidential Assistant to the Assistant Attorney General. Effective May 5, 2009.

DJGS00179 Counsel to the Principal Deputy Assistant Attorney General. Effective May 8, 2009.

DJGS00501 Speechwriter, Office of Public Affairs. Effective May 8, 2009.

DJGS00502 Special Assistant for Office of Violence Against Women. Effective May 8, 2009.

DJGS00504 Director of Advance for the Attorney General. Effective May 12, 2009.

DJGS00497 Special Assistant, Bureau of Justice Assistance. Effective May 15, 2009.

DJGS00503 Director of Scheduling for the Attorney General. Effective May 15, 2009.

DJGS00187 Counsel to the Assistant Attorney General Civil Division. Effective May 21, 2009.

DJGS00506 New Media Specialist, Office of Public Affairs. Effective May 21, 2009.

Department of Homeland Security

DMGS00662 Confidential Assistant, Immigration and Customs Enforcement. Effective May 1, 2009.

DMGS00738 Deputy Director of Scheduling and Protocol. Effective May 8, 2009.

DMGS00792 Confidential Assistant to the Deputy Chief of Staff (Policy). Effective May 8, 2009.

DMGS00793 Press Secretary for External Affairs and Communications. Effective May 8, 2009.

DMGS00795 Advisor to the Director for Policy, Customs and Border Protection. Effective May 8, 2009.

DMGS00803 Senior Advisor for Media and Communications for Public Affairs at Customs and Border Protection. Effective May 8, 2009.

DMGS00813 Confidential Assistant to the Deputy Chief of Staff (Policy). Effective May 8, 2009.

DMGS00395 Senior Advisor for Health Affairs and Chief Medical Officer. Effective May 15, 2009.

DMGS00819 Deputy to the Federal Coordinator for Gulf Coast Rebuilding. Effective May 22, 2009.

DMGS00449 Director of Legislative Affairs for Federal Emergency Management Agency. Effective May 29, 2009.

DMGS00651 Press Assistant for the Press Secretary. Effective May 29, 2009.

DMGS00669 Director of Legislative Affairs for Intelligence and Operations. Effective May 29, 2009.

DMGS00761 Associate Director for Public Liaison for the Gulf Coast. Effective May 29, 2009.

DMGS00768 New Media Specialist for Public Affairs. Effective May 29, 2009.

DMGS00797 Special Assistant, Immigration and Customs Enforcement. Effective May 29, 2009.

DMGS00804 Confidential Assistant for Intergovernmental Programs. Effective May 29, 2009.

DMGS00808 Special Assistant for Policy. Effective May 29, 2009.

DMGS00820 Advisor to the Deputy for Homeland Security. Effective May 29, 2009.

Department of the Interior

DIGS01159 Deputy Alaska Director, Alaskan Affairs. Effective May 1, 2009.

DIGS01160 Special Assistant, External and Intergovernmental Affairs. Effective May 21, 2009.

DIGS01161 Special Assistant to the Chief of Staff. Effective May 27, 2009.

DIGS01162 Chief of Staff for Fish and Wildlife and Parks. Effective May 27, 2009.

Department of Agriculture

DAGS00124 Chief of Staff, Foreign Agricultural Service. Effective May 7, 2009.

DAGS00118 Special Assistant, Rural Housing Service. Effective May 11, 2009.

DAGS00128 Confidential Assistant, Rural Housing Service. Effective May 11, 2009.

DAGS00133 Staff Assistant, Farm Service Agency. Effective May 11, 2009.

DAGS00134 Chief of Staff to the Administrator, Rural Housing Service. Effective May 11, 2009.

DAGS00135 Special Assistant, Rural Housing Service. Effective May 11, 2009.

DAGS00137 Confidential Assistant, Rural Housing Service. Effective May 11, 2009.

DAGS00138 Confidential Assistant, Rural Housing Service. Effective May 11, 2009.

DAGS00101 Confidential Assistant to the Chief of Staff. Effective May 19, 2009.

DAGS00110 Deputy Director of Scheduling and Advance for the Director of Communications. Effective May 19, 2009.

DAGS00114 Confidential Assistant to the Secretary. Effective May 19, 2009.

DAGS00122 Confidential Assistant for Farm and Foreign Agricultural Services. Effective May 19, 2009.

DAGS00127 Senior Advisor to the Deputy Secretary. Effective May 19, 2009.

DAGS00132 Confidential Assistant for Natural Resources and Environment. Effective May 19, 2009.

DAGS00140 Director of the Office of Faith Based and Neighborhood Outreach. Effective May 19, 2009.

DAGS00141 Confidential Assistant to the Chief Financial Officer. Effective May 19, 2009.

DAGS00143 Special Assistant, Natural Resources Conservation Service. Effective May 19, 2009.

DAGS00147 Special Assistant to the Administrator. Effective May 19, 2009.

DAGS00142 Senior Advisor for Food Safety. Effective May 21, 2009.

DAGS00144 Special Assistant, Natural Resources Conservation Service. Effective May 21, 2009.

DAGS00146 Chief of Staff to the Administrator. Effective May 21, 2009.

Department of Commerce

DCGS00202 Legislative Specialist for Legislative Affairs. Effective May 1, 2009.

DCGS00579 Director for Legislative and Intergovernmental Affairs. Effective May 1, 2009.

DCGS00639 News Media Director for Public Affairs. Effective May 1, 2009.

DCGS00100 Special Assistant to the Chief of Staff. Effective May 5, 2009.

DCGS00382 Confidential Assistant, Office of Policy and Strategic Planning. Effective May 6, 2009.

DCGS00484 Director, Office of Faith Based and Neighborhood Partnerships. Effective May 11, 2009.

DCGS00608 Confidential Assistant for International Trade. Effective May 11, 2009.

DCGS60532 Associate General Counsel. Effective May 11, 2009.

DCGS00473 Special Assistant to the General Counsel. Effective May 13, 2009.

DCGS00279 Chief of Staff for Communications and Information. Effective May 18, 2009.

DCGS00380 Confidential Assistant for International Trade Administration. Effective May 21, 2009.

DCGS00540 Chief Protocol Officer for Scheduling and Advance. Effective May 21, 2009.

DCGS00684 Director of Speechwriting for Public Affairs. Effective May 22, 2009.

DCGS00590 Confidential Assistant, Executive Secretariat. Effective May 29, 2009.

Department of Labor

DLGS60194 Director of Scheduling and Advance. Effective May 4, 2009.

DLGS60066 Special Assistant for Policy. Effective May 20, 2009.

DLGS60055 Special Assistant for Public Affairs. Effective May 21, 2009.

DLGS60267 Special Assistant, Scheduling, and Advance. Effective May 21, 2009.

DLGS60041 Staff Assistant to the Deputy Chief of Staff. Effective May 26, 2009.

DLGS60199 Special Assistant for Public Affairs. Effective May 27, 2009.

Department of Health and Human Services

DHGS00492 Deputy White House Liaison for Political Personnel, Boards and Commissions. Effective May 18, 2009.

DHGS60035 Confidential Assistant for Medicare and Medicaid Services. Effective May 18, 2009.

DHGS60661 Special Assistant, Health and Human Services. Effective May 18, 2009.

Department of Education

DBGS00409 Deputy Assistant Secretary for Vocational and Adult Education. Effective May 4, 2009.

DBGS00467 Director, Faith-Based and Community Initiatives for the Chief of Staff. Effective May 5, 2009.

DBGS00673 Confidential Assistant for Innovation and Improvement. Effective May 5, 2009.

DBGS00283 Special Assistant to the Press Secretary. Effective May 13, 2009.

DBGS00431 Press Secretary, Office of Communications and Outreach. Effective May 15, 2009.

DBGS00306 Deputy Assistant Secretary for Legislation and Congressional Affairs. Effective May 20, 2009.

DBGS00400 Deputy Assistant Secretary for Planning, Evaluation, and Policy Development. Effective May 20, 2009.

DBGS00344 Special Assistant for Legislation and Congressional Affairs. Effective May 21, 2009.

DBGS00533 Special Assistant, White House Liaison. Effective May 21, 2009.

DBGS00507 Confidential Assistant to the General Counsel. Effective May 22, 2009.

DBGS00184 Confidential Assistant to the Deputy Assistant Secretary. Effective May 29, 2009.

DBGS00202 Deputy Assistant Secretary for Enforcement for Civil Rights. Effective May 29, 2009.

DBGS00442 Confidential Assistant for Civil Rights. Effective May 29, 2009.

DBGS00507 Confidential Assistant to the General Counsel. Effective May 29, 2009.

Council on Environmental Quality

EQGS09001 Special Assistant to the Chairman (Council on Environmental Quality). Effective May 14, 2009.

EQGS09002 Staff Assistant to the Chairman (Council on Environmental Quality). Effective May 14, 2009.

EQGS09003 Special Assistant for Congressional Affairs. Effective May 14, 2009.

EQGS09004 Special Assistant for Communications. Effective May 14, 2009.

EQGS09005 Special Assistant to the Chairman (Council on Environmental Quality). Effective May 14, 2009.

EQGS09006 Special Assistant for Green Jobs, Enterprise, and Innovation to the Chairman (Council on Environmental Quality). Effective May 15, 2009.

Environmental Protection Agency

EPGS60799 Special Assistant to the Administrator. Effective May 1, 2009.

United States Tax Court

JCGS60052 Chambers Administrator for the Chief Judge. Effective May 28, 2009.

Department of Energy

DEGS00744 Deputy Director of Public Affairs. Effective May 6, 2009.

DEGS00745 Special Assistant to the Chief of Staff. Effective May 6, 2009.

DEGS00746 Special Assistant to the Chief of Staff. Effective May 15, 2009.

DEGS00747 Special Assistant to the Chief of Staff. Effective May 15, 2009.

DEGS00742 Senior Policy Advisor to the Chief of Staff. Effective May 19, 2009.

DEGS00749 Special Assistant to the Chief of Staff. Effective May 21, 2009.

Federal Energy Regulatory Commission

DRGS60009 Confidential Assistant to the Chair—Federal Energy Regulatory Commission. Effective May 4, 2009.

Small Business Administration

SBGS00643 Deputy Associate Administrator for Field Operations. Effective May 1, 2009.

SBGS00682 National Director for Native American Affairs. Effective May 6, 2009.

SBGS00594 Press Secretary for Communications and Public Liaison. Effective May 14, 2009.

SBGS00557 Deputy Associate Administrator for Communications and Public Liaison. Effective May 15, 2009.

SBGS00683 Special Assistant for Congressional and Legislative Affairs. Effective May 15, 2009.

SBGS00694 Congressional Legislative Affairs Assistant. Effective May 22, 2009.

Export-Import Bank

EBGS04544 Executive Assistant to the President and Chairman. Effective May 1, 2009.

Farm Credit Administration

FLOT00030 Associate Director of Congressional Affairs, Farm Credit Administration Board. Effective May 15, 2009.

Export-Import Bank

EBGS04544 Executive Assistant to the President and Chairman. Effective May 1, 2009.

National Aeronautics and Space Administration

NNGS01121 Special Assistant to the Chief of Staff. Effective May 4, 2009.

NNGS01122 Special Assistant to the Chief of Staff. Effective May 4, 2009.

Commission on Civil Rights

CCGS60012 Special Assistant to the Commissioner. Effective May 28, 2009.

National Endowment for the Arts

NAGS60077 Director of Communications for the Arts. Effective May 4, 2009.

Department of Housing and Urban Development

DUGS60470 Staff Assistant to the General Counsel. Effective May 1, 2009.

DUGS60171 Congressional Relations Specialist for the Chief of Staff. Effective May 20, 2009.

DUGS60173 Staff Assistant, Housing and Urban Development. Effective May 21, 2009.

DUGS60458 Legislative Specialist for Intergovernmental Relations. Effective May 21, 2009.

Department of Transportation

DTGS60237 Press Secretary of Public Affairs. Effective May 12, 2009.

DTGS60360 Scheduler of Scheduling and Advance. Effective May 15, 2009.

DTGS60199 Special Assistant to the Administrator. Effective May 28, 2009.

Authority: 5 U.S.C. 3301 and 3302; E.O. 10577, 3 CFR 1954-1958 Comp., p. 218.

U.S. Office of Personnel Management.
John Berry,
Director.

[FR Doc. E9-17670 Filed 7-23-09; 8:45 am]

BILLING CODE 6325-39-P